EQUAL EMPLOYMENT OPPORTUNITY COMMISSION

Sunshine Act Meeting

Agency Holding the Meeting: Equal Employment Opportunity Commission.

Date And Time: Tuesday, May 13, 2008, 10 a.m. Eastern Time.

Place: Clarence M. Mitchell, Jr. Conference Room on the Ninth Floor of the EEOC Office Building, 1801 L Street, NW., Washington, DC 20507.

Status: The meeting will be open to the public.

Matters to be Considered: Open Session:

1. Announcement of Notation Votes,

2. Change to EEOC Order 110.002, Reorganization of Administrative Judge Function and Creation of the Office of Federal Sector Programs, and

3. Notice of Proposed Rulemaking—Federal Sector Regulations, 29 CFR part 1614.

Note: In accordance with the Sunshine Act, the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings. The EEOC provides sign language interpretation at Commission meetings for the hearing impaired. Requests for other reasonable accommodations may be made by using the voice and TTY numbers listed above. Contact Person for More Information: Stephen Llewellyn, Executive Officer on (202) 663-4070.

Dated: May 2, 2008.
Stephen Llewellyn,
Executive Officer, Executive Secretariat.
This Notice Issued May 2, 2008.

[FR Doc. E8-10134 Filed 5-8-08; 8:45 am]

BILLING CODE 6570-01-M